FEDERAL COMMUNICATIONS COMMISSION

Information Collection Approved by the Office of Management and Budget

AGENCY: Federal Communications Commission.

ACTION: Notice.

SUMMARY: The Federal Communications Commission (Commission) announces that the Office of Management and Budget (OMB) has approved a new information collection associated with the Commission's 833 Auction Procedures Public Notice (FCC 19-75) (Public Notice), for a period of six months pursuant to the Paperwork Reduction Act of 1995.

An agency may not conduct or sponsor a collection of information unless it displays a currently valid OMB control number, and no person is required to respond to a collection of information unless it displays a currently valid control number. Comments concerning the accuracy of the burden estimates and any suggestions for reducing the burden should be directed to the person listed in the FOR FURTHER INFORMATION CONTACT section below.

FOR FURTHER INFORMATION CONTACT: Contact Nicole Ongele, Nicole.Ongele@fcc.gov, (202) 418-2991.

SUPPLEMENTARY INFORMATION: The total annual reporting burdens and costs for the respondents are as follows:

OMB Control Number: 3060-1264.

OMB Approval Date: September 9, 2019.

OMB Expiration Date: March 31, 2020.

Title: Application to Participate in a Toll Free Number Auction, FCC Form 833.

Form Number: FCC Form 833.

Respondents: Business or other for-profit entities, Individuals or households, Not-for-profit institutions, Federal Government, State, Local or Tribal Governments.

Number of Respondents and Responses: 200 respondents; 200 responses.

Estimated Time per Response: 1.5 hours.

Frequency of Response: On-occasion reporting requirements.

Obligation to Respond: Required to obtain or retain benefits. The statutory authority for this information collection is contained in sections 1, 4(i), 201(b) and 251(e)(1) of the Communications Act of 1934, as amended, 47 U.S.C. 151, 154(i), 201(b), 251(e)(1).

Total Annual Burden: 300 hours.

Total Annual Cost: No Cost.

Nature and Extent of Confidentiality: Information collected on FCC Form 833 is made available for public inspection, and the Commission is not requesting that respondents submit confidential information as part of the pre-auction application process. For individuals, the Privacy Act, 5 U.S.C. 552a, is the statutory authority for confidentiality and applies to this information collection. To the extent the information submitted pursuant to this information collection is determined to be confidential, it will be protected by the Commission. If a respondent seeks to have certain information collected on FCC Form 833 withheld from public inspection, the respondent may request confidential treatment of such information pursuant to section 0.459 of the Commission's rules. See 47 CFR 0.459.

Privacy Act: The Commission will determine if a Privacy Impact Assessment is required.

Needs and Uses: In August 2019, the Commission adopted the 833 Auction Procedures Public Notice (FCC 19-75), which established application and bidding procedures for the 833 Auction and required the use of FCC Form 833 to apply to participate in the auction. The Commission's rules and related requirements are designed to ensure that the competitive bidding process for assigning toll free numbers is limited to qualified applicants, deter possible abuse of the bidding process, and enhance the use of competitive bidding to assign toll free numbers in furtherance of the public interest. Applicants will use FCC Form 833 to submit the required disclosures and certifications, and the information collected on FCC Form 833 will then be reviewed to determine if an applicant is qualified to bid in the 833 code toll free number auction (833 Auction). The 833 Auction will not be able to occur without the collection of information on FCC Form 833. Without the information collected on FCC Form 833, a determination of whether the applicant is qualified to bid in the 833 Auction cannot be made.

The Commission received emergency approval from OMB for the information collection requirements contained in OMB Control Number 3060-1264 on September 9, 2019.

Federal Communications Commission.
Katura Jackson,
Federal Register Liaison Officer, Office of the Secretary.

[FR Doc. 2019-20056 Filed 9-16-19; 8:45 am]

BILLING CODE 6712-01-P